DEPARTMENT OF ENERGY

Federal Energy Regulatory Commission

[Docket No. RP06-151-000]

Kern River Gas Transmission Company; Notice of Technical Conference

March 8, 2006.

Take notice that the Commission will convene a technical conference on Tuesday, March 21, 2006, at 9:30 a.m. (EST), in a room to be designated at the offices of the Federal Energy Regulatory Commission, 888 First Street, NE., Washington DC 20426.

The technical conference will deal with issues related to Kern River Gas Transmission Company's prior-period adjustments to its gas compressor fuel and lost and unaccounted for balances, as discussed in the February 15, 2006 order.¹

¹ Kern River Gas Transmission Co., 114 FERC ¶61,162 (2006).

FERC conferences are accessible under section 508 of the Rehabilitation Act of 1973. For accessibility accommodations please send an e-mail to accessibility@ferc.gov or call toll free (866) 208-3372 (voice) or 202-502-8659 (TTY), or send a fax to 202-208-2106 with the required accommodations.

All interested persons are permitted to attend. For further information please contact Abraham Silverman at (202) 502-6444 or e-mail abraham.silverman@ferc.gov.

Magalie R. Salas,
Secretary.

[FR Doc. E6-3664 Filed 3-14-06; 8:45 am]

BILLING CODE 6717-01-P